FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 23, 2013.

A. Federal Reserve Bank of Cleveland (Nadine Wallman, Vice President) 1455 East Sixth Street, Cleveland, Ohio 44101-2566:

1. Julie Rose Akemon, individually, and the Julie Rose Akemon Control Group consisting of Julie Rose Akemon; Kemberly Clemons; Earl D. Clemons; David Clemons: The Jade Clemons Trust, Julie Rose Akemon, Trustee; the Rose Clemons Trust, Julie Rose Akemon, Trustee, all of Hazard, Kentucky; Eva Dmitrieva, Vienna, Austria; the Eva Dmitrieva Trust, Earl D. Clemons, Trustee; and Leon L. Hollon, both of Hazard, Kentucky, individually and as co-executor of the Estate of Edward L. Clemons; to acquire voting shares of Hazard Bancorp, and thereby indirectly acquire voting shares of the Peoples Bank and Trust Company, both in Hazard, Kentucky.

In addition, notificants also have applied to acquire voting shares of John R. Turner Holding Company, and thereby indirectly acquire voting shares of the Citizens Bank and Trust, both in Jackson, Kentucky, and Farmers Deposit Bank, Middleburg, Kentucky.

B. Federal Reserve Bank of Minneapolis (Jacqueline G. King, Community Affairs Officer) 90 Hennepin Avenue, Minneapolis, Minnesota 55480-0291:

1. The Elizabeth Ann Soderberg Irrevocable Trust, New Richmond, Wisconsin, Scott H. Soderberg, Eden Prairie, Minnesota, individually and as trustee, the Scott H. Soderberg Irrevocable Trust, New Richmond, Wisconsin, and Elizabeth Ann Soderberg, Minnetonka, Minnesota, individually and as trustee, to join the Soderberg family group and acquire voting shares of One Corporation, and thereby indirectly acquire voting shares of First National Community Bank, both in New Richmond, Wisconsin.

Board of Governors of the Federal Reserve System, April 3, 2013.
Michael J. Lewandowski,
Assistant Secretary of the Board.

[FR Doc. 2013-08078 Filed 4-5-13; 8:45 am]

BILLING CODE 6210-01-P